DEPARTMENT OF DEFENSE

Department of the Army, Corps of Engineers

Notice of Intent To Prepare a Draft Feasibility Report and Environmental Impact Statement for the Collier County Coastal Storm Risk Management Project, Collier County, Florida

AGENCY: U.S. Army Corps of Engineers, Department of the Army, DoD.

ACTION: Notice of intent.

SUMMARY: Pursuant to the National Environmental Policy Act of 1969, the U.S. Army Corps of Engineers (USACE) plans to prepare a draft Integrated Feasibility Study and Environmental Impact Statement (IFR/EIS) for the Collier County Coastal Storm Risk Management Study. This study will investigate the feasibility of managing coastal storm risks to nearshore areas of Collier County, Florida, from hurricanes and other storms with their associated wind, storm surge, and coastal flooding. This notice announces USACE's intent to determine the scope of the issues to be addressed and identify the significant issues related to a proposed action.

DATES: Scoping comments may be submitted until August 8, 2024.

ADDRESSES: The public is invited to submit National Environmental Policy Act (NEPA) scoping comments to Mrs. Kathy Hanes, Department of the Army, USACE Norfolk District at Fort Norfolk, 803 Front St., Norfolk, VA 23510 or via email: Collier-csrm@usace.army.mil. The project title, USACE-CW Planning-NAD/SAD-NAO-476674, and the commenter's contact information should be included with submitted comments.

FOR FURTHER INFORMATION CONTACT: Mrs. Kathy Hanes, (757) 201-7218.

SUPPLEMENTARY INFORMATION: USACE is issuing this notice pursuant to 42 U.S.C. 4321 et seq., as implemented by the Council on Environmental Quality Regulations (40 CFR parts 1500-1508) and 54 U.S.C. 300101 et seq., as implemented by Advisory Council on Historic Preservation regulations (36 CFR part 800). The study authority is provided in Section 4033 of the Water Resources Development Act of 2007 (Pub. L. 110-114), which authorizes a study to determine the feasibility of carrying out a project for hurricane and storm risk management and flood risk management in the vicinity of Vanderbilt, Park Shore, and Naples beaches, Collier County, Florida. The greater Study Area includes the nearshore, shoreline, back bays, connecting waters, and inland areas within the jurisdictional boundary of Collier County, Florida. The Study Area also includes any material borrow areas located within Federal waters of the Outer Continental Shelf (OCS) not within Collier County. The focused Study Area is separated into four different Planning Areas to help stream-line plan formulation and numeric modeling exercises. The four separable Planning Areas (PAs) are (1) North County Beaches, (2) Naples, (3) Goodland, and (4) Marco Island. Additionally, and not limited to only within these PAs, is analysis and inclusion of risk management measures for Critical Infrastructure.

The study will investigate the feasibility of addressing storm and flood risks to vulnerable populations, property, infrastructure, and ecosystems along coastlines in Collier County, and develop and evaluate various alternatives aimed at managing those risks and increasing coastal resiliency against storm surge.

Several alternatives are currently being considered, including a no action alternative and various combinations of nonstructural measures and nature-based solutions for managing risks and damages caused by coastal storms in the Study Area in Collier County, Florida. Measures being considered include nature-based solutions such as beach nourishment berms and vegetated dunes, (sometimes considered “soft” structural measures), mangrove restoration, and living shorelines; and nonstructural measures such as elevations of residences, dry and wet flood-proofing of buildings and critical infrastructure, and early warning systems.

Effects to be considered include but are not limited to the following: temporary and permanent social effects on disadvantaged or underserved communities due to nonstructural measures; potential primary or secondary effects on or near nearshore hardbottom resources threatened/endangered species, Essential Fish Habitat, and other benthic and aquatic resources, water quality, hydraulics and hydrology; temporary and or permanent effects on recreational use; effects on cultural resources; air quality and greenhouse gas emissions, and other relevant social and environmental effects.

USACE is the lead Federal agency and Collier County is the non-Federal sponsor for the study effort. The Cities of Naples and Marco Island were also invited to participate in regular study coordination with Collier County as key stakeholders. Cooperating agencies include the Environmental Protection Agency (EPA), the Bureau of Ocean Energy Management (BOEM), and the National Oceanic and Atmospheric Administration (NOAA). Participating agencies include the U.S. Fish and Wildlife Service (USFWS), Advisory Council on Historic Properties (ACHP), Florida Department of Environmental Protection (FDEP), the Florida Department of State Division of Historic Resources (DHR), Florida Fish and Wildlife Conservation Commission (FWC), Florida Division of Emergency Management (FDEM), Florida Department of Transportation (FDOT), the Seminole Tribe of Oklahoma, the Seminole Tribe of Florida, the Miccosukee Tribe of Indians in Florida, and the Thlopthlocco Tribal Town.

USACE anticipates that the following permits will be required: water quality certification pursuant to section 401 of the Clean Water Act, a Federal consistency determination pursuant to the Coastal Zone Management Act (CZMA), and leases from BOEM for use of offshore borrow areas. Coordination with environmental agencies will be conducted under the Endangered Species Act, the Magnuson-Stevens Fishery Conservation Act, the Fish and Wildlife Coordination Act, the National Historic Preservation Act, and other Federal and State laws and regulations.

Public NEPA scoping meetings were held on the following dates: 18 April 2023 via Zoom; in person on 26 April 2023; multiple in-person public meetings on 21-22 June 2023; and in-person community meetings on 16-17 January 2024. Virtual monthly public information meetings have been held since July 2023. Federal, State, and local agencies, Indian tribes, and the public are invited to provide scoping comments on alternatives and effects, including any relevant information, studies, or analyses. Scoping comments will be accepted until August 8, 2024. All comments received during the scoping period are being used to identify additional measures and alternatives, significant resources, and impacts that should be considered in the EIS. Additional comments received outside the scoping period will be considered prior to the Draft EIS public review period, to the extent possible. For comments that cannot be addressed prior to the public review period, the comments will be included with the public review period comments on the draft EIS and addressed at that time.

Availability of Draft EIS: USACE estimates that the Draft IFR/EIS will be available for public review and comment in November 2024. At that time, USACE will provide a 60-day public review period for individuals and agencies to review and comment. USACE will notify all interested agencies, organizations, and individuals of the availability of the draft document at that time. A Final IFR/EIS is anticipated in late 2025.

Daniel H. Hibner,
Brigadier General, U.S. Army, Commanding.

[FR Doc. 2024-14985 Filed 7-8-24; 8:45 am]

BILLING CODE 3720-58-P